DEPARTMENT OF ENERGY

Federal Energy Regulatory Commission

[Docket No. ER00-2325-000, et al.]

Indiana Michigan Power Company, et al.; Electric Rate and Corporate Regulation Filings

May 3, 2000.

[Docket No. ER00-2325-000]

1. Indiana Michigan Power Company, d/b/a American Electric Power

Take notice that the following filings have been made with the Commission:

Take notice that on April 27, 2000, Indiana Michigan Power Company, d/b/a American Electric Power (AEP), tendered for filing with the Commission Addenda to the service agreements under which AEP provides wholesale electric service to certain members of the Indiana Municipal Power Agency (IMPA). Specifically, AEP provides wholesale electric service to the City of Anderson and the Town of Frankton under AEP's FERC Rate Schedule 74 by a service agreement dated September 1, 1982, to the City of Columbia City under AEP's FERC Tariff MRS, Original Volume No. 4, by a service agreement dated May 14, 1968, and to the City of Richmond under AEP's Rate Schedule 70 by a service agreement dated January 2, 1977.

AEP requests that the Addenda be made effective beginning with the March 2000 billing month and states that a copy of its filing was served upon IMPA and the Indiana Utility Regulatory Commission.

Comment date: May 18, 2000, in accordance with Standard Paragraph E at the end of this notice.

2. MidAmerican Energy Company

[Docket No. ER00-2326-000]

Take notice that on April 27, 2000, MidAmerican Energy Company (MidAmerican), 666 Grand Avenue, Des Moines, Iowa 50309, tendered for filing with the Commission a Non-Firm Transmission Service Agreement with Conectiv Energy Supply, Inc. dated April 14, 2000, entered into pursuant to MidAmerican's Open Access Transmission Tariff.

MidAmerican requests an effective date of April 14, 2000, for the Agreement with Conectiv Energy, and accordingly seeks a waiver of the Commission's notice requirement.

MidAmerican has served a copy of the filing on Conectiv Energy, the Iowa Utilities Board, the Illinois Commerce Commission and the South Dakota Public Utilities Commission.

Comment date: May 18, 2000, in accordance with Standard Paragraph E at the end of this notice.

3. Arizona Public Service Company

[Docket No. ER00-2327-000]

Take notice that on April 27, 2000, Arizona Public Service Company (APS) tendered for filing Amendment No. 1 to APS-FPC Rate Schedule No. 23 with the Public Service Company of New Mexico (PNM) to change the termination provisions.

Copies of this filing have been served on PNM, the New Mexico Public Utilities Commission and the Arizona Corporation Commission.

Comment date: May 18, 2000, in accordance with Standard Paragraph E at the end of this notice.

4. Southern Indiana Gas and Electric Company

[Docket No. ER00-2328-000]

Take notice that on April 27, 2000, Southern Indiana Gas and Electric Company (SIGECO), tendered for filing service agreements for firm and non-firm transmission service under Part II of its Transmission Services Tariff with Conectiv Energy Supply, Inc.

Copies of the filing were served upon each of the parties to the service agreement.

Comment date: May 18, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-11770 Filed 5-10-00; 8:45 am]

BILLING CODE 6717-01-P